DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Specified Fishing Agreements for U.S. Territorial Catch, Effort and Allocation Limits.

OMB Control Number: 0648-0689.

Form Number(s): None.

Type of Request: Regular (extension of a current collection of information).

Number of Respondents: 5.

Average Hours per Response: 6 hours per agreement; 2 hours per appeal.

Burden Hours: 32 (estimating one appeal per year).

Needs and Uses: The Fishery Ecosystem Plan (FEP) for Pelagic Fisheries of the Western Pacific contains a process that allows NOAA's National Marine Fisheries Service (NMFS) to implement catch and/or fishing effort limits for management unit species (MUS) caught by pelagic fisheries in the American Samoa, Guam, and the Commonwealth of the Northern Mariana Islands (hereinafter, the U.S. territories). The process also allows NMFS to authorize the government of each U.S. territory to allocate a specific amount of MUS to a U.S. fishing vessel permitted under the FEP through a specified fishing agreement, not to exceed the amount made available for allocation by NMFS. Funds provided by U.S. fishing vessels through a specified fishing agreement are deposited into the Western Pacific Sustainable Fisheries Fund (SFF) to support fisheries development projects listed in a marine conservation plan of a U.S. territory submitted to and approved by the Secretary of Commerce.

Data gathered under a specified fishing agreement will include the identity of fishing vessels subject to the agreement, the amount (weight) of MUS or fishing effort to which the agreement applies, and the amount of monetary contributions that fishing vessel, subject to the agreement, will deposit into the SFF, if applicable. Additionally, specified fishing agreements must be signed by an authorized official of the U.S. territory or designated representative, and be signed by each vessel owner or designated representative. There is no form for an agreement.

NMFS will use the data collected to determine vessel eligibility, and ensure the amount of MUS or fishing effort available for allocation to a U.S. fishing vessel is consistent with the Pelagic FEP, the Magnuson-Stevens Fishery Conservation and Management Act and other applicable laws, and the conservation needs of the stock.

Affected Public: Individuals or households; business or other for-profit organizations; State or Territorial government.

Frequency: Annual.

Respondent's Obligation: To submit a complete specified fishing agreement that includes the information set forth in federal regulations at 50 CFR 665.819.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-05920 Filed 3-27-19; 8:45 am]

BILLING CODE 3510-22-P